DEPARTMENT OF HEALTH AND HUMAN SERVICES

National Committee on Vital and Health Statistics: Meeting

Pursuant to the Federal Advisory Committee Act, the Department of Health and Human Services announces the following advisory committee meeting.

Name: National Committee on Vital and Health Statistics (NCVHS) Subcommittee on Privacy and Confidentiality.

Time and Date: 8:30 a.m.-4:45 p.m., January 11, 2005; 8:30 a.m.-4:45 p.m., January 12, 2005.

Place: Hubert H. Humphrey Building, Room 705-A, 200 Independence Avenue, SW., Washington, DC 20201.

Status: Open.

Purpose: At this meeting of the Subcommittee on Privacy and Confidentiality will receive information on the implementation of the regulation “Standards for Privacy of Individually Identifiable Health Information” (45 CFR parts 160 and 164), promulgated under the Health Insurance Portability and Accountability Act of 1996.

The first day of the meeting will be conducted as a hearing, in which the Subcommittee will gather information about the impact of the regulation on two topics: radio frequency identification (RFID) technology; and, decedent health information. The Subcommittee will invite representatives of affected groups to provide information about how the regulation has affected the level of privacy and confidentiality for protected health information, best practices for implementation of the regulation, and information that might help to identify and resolve barriers to compliance. The format will include one or more invited panels and time for questions and discussion. The Subcommittee will ask the invited witnesses for examples of the effect the regulation has had on individuals and on entities subject to the regulation. The first day will also include a time period during which members of the public may deliver brief (3 minutes or less) oral public comment about the implementation of the regulations. To be included on the agenda, please contact Marietta Squire (301) 458-4524, by e-mail at mrawlinson@cdc.gov or postal address at 3311 Toledo Road, Room 2340, Hyattsville, MD 20782 by January 10, 2005.

The second day of the meeting will be conducted as a hearing, in which the Subcommittee will gather information about the impact of the regulation on third party disclosures. The Subcommittee will invite representatives of affected groups to provide information about how the regulation has affected the level of privacy and confidentiality for protected health information, best practices for implementation of the regulation, and information that might help to identify and resolve barriers to compliance. The format will include one or more invited panels and time for questions and discussion. The Subcommittee will ask the invited witnesses for examples of the effect the regulation has had on individuals and on entities subject to the regulation.

Persons wishing to submit written testimony only (which should not exceed five double-spaced typewritten pages) should endeavor to submit it by that date. Unfilled slots for oral testimony will also be filled on the days of the meeting as time permits. Please consult Ms. Squire for further information about these arrangements.

Additional information about the hearing will be provided on the NCVHS Web site at http://www.ncvhs.hhs.gov shortly before the hearing date.

Contact Person for More Information: Information about the content of the hearing and matters to be considered may be obtained from Kathleen H. Fyffe, Lead Staff Person for the NCVHS Subcommittee on Privacy and Confidentiality, Office of the Assistant Secretary for Planning and Evaluation, U.S. Department of Health and Human Services, 440D Humphrey Building, 200 Independence Avenue, SW., Washington DC 20201, telephone (202) 690-7152, e-mail Kathleen.Fyffe@hhs.gov or from Marjorie S. Greenberg, Executive Secretary, NCVHS, NCHS, CDC, Room 2413, Presidential Building IV, 3311 Toledo Road, Hyattsville, Maryland 20782, telephone (301) 458-4245.

Information about the committee, including summaries of past meetings and a roster of committee members, is available on the Committee's Web site at http://www.ncvhs.hhs.gov.

Should you require reasonable accommodation, please contact the CDC Office of Equal Employment Opportunity on (301) 458-4EEO (4336) as soon as possible.

Dated: January 3, 2005.
James Scanlon,
Acting Deputy Assistant Secretary for Science and Data Policy, OASPE.

[FR Doc. 05-797 Filed 1-13-05; 8:45 am]

BILLING CODE 4151-05-M